SMALL BUSINESS ADMINISTRATION

[Disaster Declaration #20975 and #20976; MISSOURI Disaster Number MO-20010]

Administrative Disaster Declaration of a Rural Area for the State of Missouri

AGENCY: U.S. Small Business Administration.

ACTION: Notice.

SUMMARY: This is a notice of an Administrative disaster declaration of a rural area for the State of Missouri dated February 18, 2025.

Incident: Severe Storms, Tornadoes, Straight-line Winds, and Flooding.

DATES: Issued on February 18, 2025.

Incident Period: November 3, 2024 through November 9, 2024.

Physical Loan Application Deadline Date: April 21, 2025.

Economic Injury (EIDL) Loan Application Deadline Date: November 18, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the Administrator's disaster declaration of a rural area, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Counties: Pulaski

The Interest Rates are:

| Percent
For Physical Damage:
Homeowners with Credit Available Elsewhere | 5.125
Homeowners without Credit Available Elsewhere | 2.563
Businesses with Credit Available Elsewhere | 8.000
Businesses without Credit Available Elsewhere | 4.000
Non-Profit Organizations with Credit Available Elsewhere | 3.625
Non-Profit Organizations without Credit Available Elsewhere | 3.625
For Economic Injury:
Business and Small Agricultural Cooperatives without Credit Available Elsewhere | 4.000 N
on-Profit Organizations without Credit Available Elsewhere | 3.625

The number assigned to this disaster for physical damage is 20975C and for economic injury is 209760.

The State which received an EIDL Declaration is Missouri.

(Catalog of Federal Domestic Assistance Number 59008)

Everett Woodel,
Acting Administrator.

[FR Doc. 2025-02939 Filed 2-21-25; 8:45 am]

BILLING CODE 8026-09-P